ENVIRONMENTAL PROTECTION AGENCY

[OPPTS-51985; FRL-6830-4]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from February 14, 2002 to February 28, 2002, consists of the PMNs pending or expired, and the notices of commencement to manufacture a new chemical that the Agency has received under TSCA section 5 during this time period. The “S” and “G” that precede the chemical names denote whether the chemical idenity is specific or generic.

DATES: Comments identified by the docket control number OPPTS-51985 and the specific PMN number, must be received on or before May 6, 2002.

ADDRESSES: Comments may be submitted by mail, electronically, or in person. Please follow the detailed instructions for each method as provided in Unit I. of the SUPPLEMENTARY INFORMATION. To ensure proper receipt by EPA, it is imperative that you identify docket control number OPPTS-51985 and the specific PMN number in the subject line on the first page of your response.

FOR FURTHER INFORMATION CONTACT: Barbara Cunningham, Acting Director, Environmental Assistance Division, Office of Pollution Prevention and Toxics (7408M), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including Copies of this Document and Other Related Documents?

1. Electronically. You may obtain copies of this document and certain other available documents from the EPA Internet Home Page at http://www.epa.gov/. On the Home Page select “Laws and Regulations”,” Regulations and Proposed Rules, and then look up the entry for this document under the “Federal Register—Environmental Documents.” You can also go directly to the Federal Register listings at http://www.epa.gov/fedrgstr/.

2. In person. The Agency has established an official record for this action under docket control number OPPTS-51985. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, any test data submitted by the Manufacturer/Importer is available for inspection in the TSCA Nonconfidential Information Center, North East Mall Rm. B- 607, Waterside Mall, 401 M St., SW., Washington, DC. The Center is open from noon to 4 p.m., Monday through Friday, excluding legal holidays. The telephone number of the Center is (202) 260-7099.

C. How and to Whom Do I Submit Comments?

You may submit comments through the mail, in person, or electronically. To ensure proper receipt by EPA, it is imperative that you identify docket control number OPPTS-51985 and the specific PMN number in the subject line on the first page of your response.

1. By mail. Submit your comments to: Document Control Office (7407M), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: “oppt.ncic@epa.gov,” or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-51985 and the specific PMN number. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from February 14, 2002 to February 28, 2002, consists of the PMNs pending or expired, and the notices of commencement to manufacture a new chemical that the Agency has received under TSCA section 5 during this time period.

III. Receipt and Status Report for PMNs

This status report identifies the PMNs pending or expired, and the notices of commencement to manufacture a new chemical that the Agency has received under TSCA section 5 during this time period. If you are interested in information that is not included in the following tables, you may contact EPA as described in Unit II. to access additional non-CBI information that may be available. The “S” and “G” that precede the chemical names denote whether the chemical idenity is specific or generic.

In table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 55 Premanufacture Notices Received From: 02/14/02 to 02/28/02
Case No. | Received Date | Projected Notice End Date | Manufacturer/Importer | Use | Chemical
P-02-0354 | 02/14/02 | 05/15/02 | CBI | (G) Surfactant | (G) Acrylic polymer
P-02-0355 | 02/14/02 | 05/15/02 | CBI | (G) Saturation resin for structural composites | (G) Polymer with phenol-bisphenol-formaldehyde
P-02-0356 | 02/14/02 | 05/15/02 | CBI | (G) Additive for paint | (G) Aliphatic benzoate ester
P-02-0358 | 02/14/02 | 05/15/02 | CBI | (G) Chain-terminating agent | (G) Alkyl xanthate
P-02-0359 | 02/15/02 | 05/16/02 | CIBA Specialty Chemicals Corporation | (G) Textile dye | (G) Substituted pyridine coupled with diazotized substituted nitrobenzonitrile, diazotized substituted benzenamine and substituted pyridinecarbonitrile
P-02-0360 | 02/15/02 | 05/16/02 | AOC L.L.C. | (S) Polyester component for sheet molding compound for plastic parts; polyester component for bulk molding compound for plastic parts | (S) Hexanedioic acid (9ci) polymer with 2,2-dimethyl-1,3-propanediol, 1,2-ethanediol and 2,5-furandione
P-02-0361 | 02/15/02 | 05/16/02 | The Prince Manufacturing Company | (S) Onecoat resin for tpo's; adhesives for tpo's | (S) 2-propenoic acid, 2-methyl-, polymers with chlorinated maleic anhydride-polypropylene reaction products, cyclohexyl methacrylate and me methacrylate
P-02-0362 | 02/15/02 | 05/16/02 | CBI | (G) Product is a component in a lubricant blend with final use in the plastics industry | (G) Mixed alkyl phosphate esters alkoxylated
P-02-0363 | 02/19/02 | 05/20/02 | CBI | (G) Polymeric chromophore | (G) Polyalkoxylated aromatic chromophore
P-02-0364 | 02/19/02 | 05/20/02 | CBI | (G) Polymeric chromophore | (G) Polyalkoxylated aromatic chromophore
P-02-0365 | 02/19/02 | 05/20/02 | CBI | (G) Polymeric chromophore | (G) Polyalkoxylated aromatic chromophore
P-02-0366 | 02/19/02 | 05/20/02 | CBI | (G) Polymeric chromophore | (G) Polyalkoxylated aromatic chromophore
P-02-0367 | 02/19/02 | 05/20/02 | CBI | (G) Chemical intermediate | (G) Polyalkoxylated phenol derivative
P-02-0368 | 02/19/02 | 05/20/02 | CBI | (G) Chemical intermediate | (G) Polyalkoxylated phenol derivative
P-02-0369 | 02/19/02 | 05/20/02 | Solutia Inc. | (S) Curing resin for industrial coatings | (G) Modified epoxy resin
P-02-0370 | 02/19/02 | 05/20/02 | AOC, LLC | (S) Polyester component for filament winding of fiberglass reinforced plastic parts | (S) 1,3-benzenedicarboxylic acid (9ci) polymer with 1,4-benzenedicarboxylic acid, 2,5-furandione, 2,2'-oxybis(ethanol) and 1,2-propanediol
P-02-0371 | 02/20/02 | 05/21/02 | BASF Corporation | (G) Pick-up truck bed liner | (G) Ipdi prepolymer
P-02-0372 | 02/20/02 | 05/21/02 | CBI | (S) Reactive dyestuff for the coloration of cellulosic fiber materials | (G) Bifunctional reactive azo dye
P-02-0373 | 02/20/02 | 05/21/02 | CBI | (G) Open, non dispersive (dye) | (G) Anthracene dyestuff
P-02-0374 | 02/20/02 | 05/21/02 | CBI | (G) Adhesion promotor | (G) Chlorinated polyester
P-02-0375 | 02/20/02 | 05/21/02 | CBI | (S) Reactive dyestuff for the coloration of cellulosic fiber materials | (G) Bifunctional reactive azo dye
P-02-0376 | 02/20/02 | 05/21/02 | CBI | (G) Lubricant additive | (G) Fatty acid ester
P-02-0377 | 02/20/02 | 05/21/02 | H.B. Fuller Company | (S) Pleat bonding adhesive for air and oil filters; adhesive and coating for textiles | (G) Polyamide
P-02-0378 | 02/20/02 | 05/21/02 | H.B. Fuller Company | (S) Pleat bonding adhesives for air and oil filters; adhesive and coating for textile | (G) Polyamide
P-02-0379 | 02/20/02 | 05/21/02 | H.B. Fuller Company | (S) Pleat bonding adhesive for air and oil filters; adhesives and coating for textiles | (G) Polyamide
P-02-0380 | 02/20/02 | 05/21/02 | H.B. Fuller Company | (S) Pleat bonding adhesive for air oil filters; adhesive and coating for textiles | (G) Polyamide
P-02-0381 | 02/21/02 | 05/22/02 | Solutia Inc. | (S) Curing resin for industrial can coatings | (G) Polyester resin
P-02-0382 | 02/21/02 | 05/22/02 | CBI | (G) Petroleum lubricant additive | (G) Alkylbenzene sulfonate
P-02-0383 | 02/21/02 | 05/22/02 | E.I. Du pont de Nemours and Company - Dupont Nylon | (S) Polyurethane monomer; polyester monomer; fragrance intermediate | (S) 1,4-cyclododecanediol*
P-02-0384 | 02/21/02 | 05/22/02 | E.I. Du pont de Nemours and Company - Dupont Nylon | (S) Polyurethane monomer; polyester monomer; fragrance intermediate | (S) 1,5-cyclododecanediol
P-02-0385 | 02/21/02 | 05/22/02 | E.I. Du pont de Nemours and Company - Dupont Nylon | (S) Polyurethane monomer; polyester monomer; fragrance intermediate | (S) 1,6-cyclododecanediol
P-02-0386 | 02/22/02 | 05/23/02 | CBI | (G) Open, non-dispersive use | (G) Acrylic polymer
P-02-0387 | 02/22/02 | 05/23/02 | Solutia Inc. | (S) Defoamer for waterborne emulsion paints and adhesives | (G) Modified alkyd resin
P-02-0388 | 02/25/02 | 05/26/02 | CBI | (S) Intermediate used in the manufacture of photoresist raw materials | (G) Arylsulfonium compound
P-02-0389 | 02/25/02 | 05/26/02 | CBI | (G) An open non-dispersive use | (G) Alkyd resin
P-02-0390 | 02/25/02 | 05/26/02 | CBI | (G) Softening of cellulose | (G) Fatty acid, alkanolamine ester
P-02-0391 | 02/25/02 | 05/26/02 | Specialty Fertilizer Products LLC | (G) Fertilizer dust control coating and agronomic enhancement product | (G) Maleic acid salt copolymer
P-02-0392 | 02/25/02 | 05/26/02 | Loctite Corporation | (S) A component of adhesive formulations for general industrial bonding applications | (S) Poly[oxy(methyl-1,2-ethanediyl)],alpha-[[[3-(trimethoxysilyl)propyl]amino]carbonyl]-omega-[[[[3-(trimethoxysilyl)propyl]amino]carbonyl]oxy]-
P-02-0393 | 02/25/02 | 05/26/02 | Specialty Fertilizer Products LLC | (G) Intermediate for chemical used as fertilizer dust control coating and agronomic enhancement product | (G) Maleic acid salt copolymer
P-02-0394 | 02/25/02 | 05/26/02 | CBI | (S) Raw material used in a photoresist formulation | (G) Arylsulfonium compound
P-02-0395 | 02/26/02 | 05/27/02 | CBI | (G) Chemical intermediate | (G) Cyclohexene-carboxylic acid, [(di-propenylamino)carbonyl]-,sodium salt, (1r,6r)-rel-
P-02-0396 | 02/25/02 | 05/26/02 | CBI | (S) Raw material for use in fragrances for soaps and household personal care products | (G) Aliphatic substituted amide
P-02-0397 | 02/25/02 | 05/26/02 | CBI | (S) Siloxane polymer used as an intermediate for another polymer | (G) Siloxane polymer
P-02-0398 | 02/25/02 | 05/26/02 | CBI | (S) Siloxane polymer used as a raw material in photoresist | (G) Blocked siloxane polymer
P-02-0399 | 02/25/02 | 05/26/02 | CBI | (G) Uv/eb curing agent (all categories) | (S) Butanedioic acid, (tetrapropenyl)-, mono[2-[(1-oxo-2-propenyl)oxy]ethyl]ester
P-02-0400 | 02/25/02 | 05/26/02 | CBI | (G) Uv/eb curing agent (all categories) | (S) Butanedioic acid, (tetrapropenyl)-, mono[2-[(2-methyl-1-oxo-2-propenyl)oxy]ethyl ester
P-02-0401 | 02/25/02 | 05/26/02 | CBI | (G) Uv/eb curing agent (all categories) | (S) Butanedioic acid, octenyl-, mono[2-[(1-oxo-2-propenyl)oxy]ethyl] ester
P-02-0402 | 02/25/02 | 05/26/02 | CBI | (G) Uv/eb curing agent (all categories) | (S) Butanedioic acid octenyl-, mono[2-[(2-methyl-1-oxo-2-propenyl)oxy]ethyl] ester
P-02-0403 | 02/28/02 | 05/29/02 | Hercules incorporated | (G) Papermaking chemical | (G) Imidazolium salt
P-02-0404 | 02/28/02 | 05/29/02 | CBI | (S) Coating for paperboard stock | (G) Aliphatic polyester polyurethane with tertiary amine
P-02-0405 | 02/28/02 | 05/29/02 | CBI | (G) An open, non-dispersive use | (G) Polyester-type polyurethane
P-02-0406 | 02/28/02 | 05/29/02 | CBI | (G) Corrosion inhibitor | (G) Acetaldehyde based polymer
P-02-0407 | 02/28/02 | 05/29/02 | 3m company | (S) Cross linker | (G) Urethane acrylate
P-02-0408 | 02/28/02 | 05/29/02 | Ciba specialty chemicals Corporation, textile effects | (S) Exhaust dyeing of polyester fibers | (G) Acetamide, substituted alkylamino phenyl azo substituted isoindole
P-02-0409 | 02/28/02 | 05/29/02 | Ciba specialty chemicals Corporation, textile effects | (S) Exhaust dyeing of polyester fibers | (G) Acetamide, substituted methoxyalkylamino phenyl azo substituted isoindole

In table II of this unit, EPA provides the following information (to the extent that such information is not claimed as CBI) on the Notices of Commencement to manufacture received:

II. 37 Notices of Commencement From: 02/14/02 to 02/28/02
Case No. | Received Date | Commencement/Import Date | Chemical
P-00-0187 | 02/28/02 | 02/21/02 | (G) Ethoxyylated phenol, styrenated
P-00-0560 | 02/27/02 | 01/14/02 | (G) Acrylic emulsion polymer
P-00-0561 | 02/27/02 | 01/14/02 | (G) Acrylic emulsion polymer
P-00-0562 | 02/27/02 | 01/14/02 | (G) Acrylic emulsion polymer
P-00-0563 | 02/27/02 | 01/14/02 | (G) Acrylic emulsion polymer
P-00-1144 | 02/27/02 | 01/16/02 | (G) Unsaturated alkyl acid
P-01-0254 | 02/22/02 | 12/12/01 | (G) Epoxy urethane acrylate
P-01-0340 | 02/14/02 | 01/07/02 | (S) 9-octadecenoic acid, 12-(benzoyloxy)-, hexadecyl ester, [r-(z)]-
P-01-0479 | 02/26/02 | 02/07/02 | (G) Dodecyl 4-methoxybenzene derivative
P-01-0502 | 02/22/02 | 02/11/02 | (G) Polyesterimide resin, based on theic
P-01-0633 | 02/27/02 | 01/27/02 | (G) Aliphatic thermoplastic polyurethane
P-01-0649 | 02/28/02 | 02/17/02 | (G) Organometallic complex
P-01-0735 | 02/20/02 | 01/17/02 | (G) Polyamideimide polymer
P-01-0758 | 02/28/02 | 02/11/02 | (G) Organo silane ester
P-01-0804 | 02/14/02 | 01/12/02 | (G) Substituted carbocyle
P-01-0834 | 02/15/02 | 01/30/02 | (G) Aliphatic ester of dicarboxylic acid
P-01-0837 | 02/15/02 | 02/01/02 | (G) Aliphatic ester of dicarboxylic acid
P-01-0892 | 02/27/02 | 01/08/02 | (G) Polymer of substituted aromatic olefins and aliphatic olefins
P-01-0914 | 02/20/02 | 01/14/02 | (G) Acrylic polymer
P-01-0915 | 02/20/02 | 01/14/02 | (G) Acrylic polymer
P-01-0916 | 02/20/02 | 01/14/02 | (G) Acrylic polymer
P-01-0917 | 02/22/02 | 02/14/02 | (G) Methacrylic polymer
P-01-0927 | 02/20/02 | 01/14/02 | (G) Polycarbonate and polyester-type polyurethane
P-02-0001 | 02/19/02 | 02/05/02 | (G) Acrylic polymer on the basis of methyl methacrylate and n-butyl methacrylate
P-02-0016 | 02/26/02 | 02/07/02 | (G) Fluorochemical urethane
P-02-0026 | 02/28/02 | 01/17/02 | (G) Mixed aliphatic substituted bis-p-phenylene diurea
P-02-0032 | 02/21/02 | 01/29/02 | (G) Aromatic thiophene derivative
P-02-0044 | 02/27/02 | 02/05/02 | (G) Copper phthalocyanine derivative
P-02-0055 | 02/15/02 | 02/12/02 | (G) Dioic acid, polymer with (substituted)diol, hydrazine, hydroxypoly[(substituted)diyl], (substituted)propanoic acid and [(substituted)cyclohexane], compd. with (substituted)amine
P-02-0096 | 02/22/02 | 02/19/02 | (G) Acid functional acrylic polymer
P-94-1653 | 02/28/02 | 02/01/02 | (G) Aromatic polyisocyanate
P-94-2134 | 02/27/02 | 01/18/02 | (G) Polyalphaolefins
P-96-1704 | 02/14/02 | 12/20/01 | (S) 8-decene-3, 5-dione,4,6,9-trimethyl-
P-98-0781 | 02/28/02 | 01/28/02 | (G) Fluorinated amine oxide
P-98-1067 | 02/26/02 | 02/17/02 | (G) Acrylated urethane
P-99-0407 | 02/26/02 | 01/19/02 | (G) Polyester acrylate
P-99-0676 | 02/21/02 | 01/20/02 | (G) Ethylene interpolymer

List of Subjects

Environmental protection, Chemicals, Premanufacturer notices.

Dated: March 20, 2002.
Mary Louise Hewlett,
Acting Director, Information Management Division, Office of Pollution Prevention and Toxics.

[FR Doc. 02-8157 Filed 4-3-02; 8:45 am]

BILLING CODE 6560-50-S